DEPARTMENT OF TRANSPORTATION

Office of The Secretary

Guidance on the Use of Rounding in Air Fare Advertisements

AGENCY: Office of the Secretary, Department of Transportation.

ACTION: Notice Providing Guidance on the Use of Rounding in Air Fare Advertisements.

SUMMARY: The Department is publishing the following notice providing guidance on the use of rounding in air fare advertisements.

FOR FURTHER INFORMATION CONTACT: Nicholas Lowry, Attorney, Office of Aviation Enforcement and Proceedings (C-70), 1200 New Jersey Ave. SE., Washington, DC 20590, (202) 366-9349.

This notice is intended to provide guidance to air carriers, foreign air carriers, and ticket agents regarding compliance with the full-fare disclosure mandate of the Department's recent consumer rule, “Enhancing Airline Consumer Protections” (14 CFR 399.84, 76 FR 23110, 23166, Apr. 25, 2011). The rule requires that in all fare advertisements for passenger air transportation, a tour, or a tour component the fare published by the vendor must represent the full amount payable by the consumer. Based on a recent review by the Office of Aviation Enforcement and Proceedings (Enforcement Office), a number of Internet sites display fares in whole dollar amounts that represent a rounding down of the exact fare, while other sites state the exact fare or round up.

To comply with the requirements of our recently revised full-fare advertising rule, sellers of air transportation must in all fare displays state either the exact fare or round up to an amount greater than the exact fare. This will avoid stating a fare that is lower than its actual amount and may be particularly important in sites which rank fares and display fare alternatives by fare amount. The Enforcement Office views any failure to show either the exact fare or to round up to an amount greater than the exact fare to constitute an unfair and deceptive trade practice and unfair method of competition in violation of 49 U.S.C. 41712 as well as a violation of 14 CFR 399.84. Of course, sellers rounding up in their advertisements may sell the ticket at the exact fare when a purchase is made.

The Enforcement Office will allow vendors 60 days to revise their site displays, if necessary, prior to instituting enforcement action on the basis of a practice of rounding down fare amounts. These disclosure requirements extend to all vendors of air transportation. Questions regarding this notice may be addressed to the Office of Aviation Enforcement and Proceedings (C-70), 1200 New Jersey Avenue, SE., Washington, DC 20590.

An electronic version of this document is available at http://www.regulations.gov.

Dated: February 28, 2012.
Samuel Podberesky,
Assistant General Counsel for Aviation Enforcement and Proceedings.

[FR Doc. 2012-5217 Filed 3-2-12; 8:45 am]

BILLING CODE 4910-9X-P